DEPARTMENT OF HEALTH AND HUMAN SERVICES

Centers for Disease Control and Prevention

[30 Day-07-06AK]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-6974. Written comments should be received within 30 days of this notice.

Proposed Project

CDC Web site Usability Evaluation—New—National Center for Health Marketing (NCHM), Coordinating Center for Health Information and Services (CoCHIS), Centers for Disease Control and Prevention (CDC).

Background and Brief Description

Executive Order 12862 directs agencies that provide significant services directly to the public to survey customers to determine the kind and quality of services they need and their level of satisfaction with existing services. The Centers for Disease Control and Prevention (CDC), National Center for Health Marking (NCHM), seeks to obtain approval to conduct usability tests of the CDC Web site, http://www.cdc.gov, on an ongoing basis. By collecting Web site usability information, CDC will be better able to serve, and respond to, the ever-changing demands of Web site users. These users include individuals (such as patients, educators, students, etc.), interested communities, partners, healthcare providers, and businesses. Survey information will augment current Web content, delivery, and design research which is used to understand the Web user, and more specifically, the CDC user community. Primary objectives are to (1) ensure CDC's Web site meets its customer needs and (2) ensure the Web site meets the wants, preferences, and needs of its target audiences. Findings will help to: (1) Understand the user community and how to better serve Internet users; (2) discover areas requiring improvement in either content or delivery; (3) determine how to align Web offerings with identified user need(s); and (4) explore methods for offering, presenting and delivering information most effectively. There are no costs to respondents other than their time. The total estimated annualized burden hours are 41,041.

Estimated Annualized Burden Hours
Survey type | Number of respondents | Frequency of response per respondent | Average burden per response (hrs.)
In Person Surveys | 7,500 | 1 | 1
Remote Surveys | 67,000 | 1 | 30/60
Screener Only | 500 | 1 | 5/60

Dated: November 1, 2006.
Joan F. Karr,
Acting Reports Clearance Officer, Centers for Disease Control and Prevention.

[FR Doc. E6-18741 Filed 11-6-06; 8:45 am]

BILLING CODE 4163-18-P